DEPARTMENT OF DEFENSE

Office of the Secretary

[Docket ID: DoD-2025-HA-0214]

Submission for OMB Review; Comment Request

AGENCY: The Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; and OMB Number: TRICARE Retail Refunds User Account Access Request; OMB Control Number 0720-0032.

Type of Request: Extension.

Number of Respondents: 300.

Responses per Respondent: 4.

Annual Responses: 1,200.

Average Burden Per Response: 8 hours.

Annual Burden Hours: 9,600.

Needs and Uses: The information collection requirement is necessary to obtain and record refund amounts between the DoD and pharmaceutical manufacturers. The DoD quarterly provides pharmaceutical manufacturers with itemized utilization data on covered drugs dispensed to TRICARE beneficiaries through TRICARE retail network pharmacies. These manufacturers validate the refund amounts calculated from the difference in price between the Federal Ceiling Prices and the direct commercial contract sales price. Once the refund amounts are validated, the pharmaceutical manufacturers directly pay the Defense Health Agency Government account.

Affected Public: Business or other for-profit.

Frequency: On occasion.

Respondent's Obligation: Voluntary.

DOD Clearance Officer: Mr. Reginald Lucas.

Dated: November 21, 2025.
Stephanie J. Bost,
Alternate OSD Federal Register Liaison Officer, Department of Defense.

[FR Doc. 2025-21164 Filed 11-25-25; 8:45 am]

BILLING CODE 6001-FR-P